SECURITIES AND EXCHANGE COMMISSION

[File No. 500-1]

Aqua Vie Beverage Corporation; Order of Suspension of Trading

May 2, 2003.

It appears to the Securities and Exchange Commission that there is a lack of current and accurate information concerning the securities of Aqua Vie Beverage Corporation (“Aqua Vie”), trading under the stock symbol AQVB. Questions have been raised regarding the accuracy and completeness of information about Aqua Vie in fax broadcasts and on the Internet investors concerning, among other things, Aqua Vie's revenue projections and transactions in the common stock of Aqua Vie by certain individuals or entities providing services to Aqua Vie.

The Commission is of the opinion that the public interest and the protection of investors require a suspension of trading in the securities of the above listed company.

Therefore, it is ordered, pursuant to section 12(k) of the Securities Exchange Act of 1934, that trading in the above listed company is suspended for the period from 9:30 a.m. EDT, May 2, 2003 through 11:59 p.m. EDT, on May 15, 2003.

By the Commission.
Margaret H. McFarland,
Deputy Secretary.

[FR Doc. 03-11310 Filed 5-2-03; 1:50 pm]

BILLING CODE 8010-01-P